FEDERAL ELECTION COMMISSION

[Notice 2013-12]

Filing Dates for the Alabama Special Elections in the 1st Congressional District

AGENCY: Federal Election Commission.

ACTION: Notice of filing dates for special elections.

SUMMARY: Alabama has scheduled special elections to fill the U.S. House seat in the 1st Congressional District vacated by Representative Jo Bonner. There are three possible special elections, but only two may be necessary.

• Primary Election: September 24, 2013.

• Possible Runoff Election: November 5, 2013. In the event that one candidate does not achieve a majority vote in his/her party's Special Primary Election, the top two vote-getters will participate in a Special Runoff Election.

• General Election: December 17, 2013. However, if a Special Runoff Election is not necessary, the Special General will instead be held on November 5, 2013.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

Special Primary Only

All principal campaign committees of candidates only participating in the Alabama Special Primary shall file a Pre-Primary Report on September 12, 2013. (See chart below for the closing date for the report).

Special Primary and General Without Runoff

If only two elections are held, all principal campaign committees of candidates participating in the Alabama Special Primary and Special General Elections shall file a Pre-Primary Report on September 12, 2013; a Pre-General Report on October 24, 2013; and a Post-General Report on December 5, 2013. (See chart below for the closing date for each report).

Special Primary and Runoff Elections

If three elections are held, all principal campaign committees of candidates only participating in the Alabama Special Primary and Special Runoff Elections shall file a Pre-Primary Report on September 12, 2013; and a Pre-Runoff Report on October 24, 2013. (See chart below for the closing date for each report.)

Special Primary, Runoff and General Elections

All principal campaign committees of candidates participating in the Alabama Special Primary, Special Runoff and Special General Elections shall file a Pre-Primary Report on September 12, 2013; a Pre-Runoff Report on October 24, 2013; a Pre-General Report on December 5, 2013; and a Post-General Report on January 21, 2014. (See chart below for the closing date for each report.)

Unauthorized Committees (PACs and Party Committees)

Political committees filing on a semi-annual basis in 2013 are subject to special election reporting if they make previously undisclosed contributions or expenditures in connection with the Alabama Special Primary, Special Runoff or Special General Elections by the close of books for the applicable report(s). (See chart below for the closing date for each report).

Since disclosing financial activity from two different calendar years on one report would conflict with the calendar year aggregation requirements stated in the Commission's disclosure rules, if three elections are held, unauthorized committees that trigger the filing of the Post-General Report will be required to file this report on two separate forms. One form to cover 2013 activity, labeled as the Year-End Report; and the other form to cover only 2014 activity, labeled as the Post-General Report. Both forms must be filed by January 21, 2014.

Committees filing monthly that make contributions or expenditures in connection with the Alabama Special Primary, Special Runoff or Special General Elections will continue to file according to the monthly reporting schedule.

Additional disclosure information in connection with the Alabama Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of $17,100 during the special election reporting periods (see charts below for closing date of each period). 11 CFR 104.22(a)(5)(v) and (b).

Calendar of Reporting Dates for Alabama Special Elections
Report | Close of books¹ | Reg./cert. & overnight mailing deadline | Filing deadline
Quarterly Filing Committees Involved in Only the Special Primary (09/24/13) Must File:
Pre-Primary | 09/04/13 | 09/09/13 | 09/12/13
October Quarterly | 09/30/13 | 10/15/13 | 10/15/13
Semi-Annual Filing Committees Involved in Only the Special Primary (09/24/13) Must File:
Pre-Primary | 09/04/13 | 09/09/13 | 09/12/13
Year-End | 12/31/13 | 01/31/14 | 01/31/14
If Only Two Elections Are Held, Quarterly Filing Committees Involved in the Special Primary (09/24/13) and Special General (11/05/13) ² Must File:
Pre-Primary | 09/04/13 | 09/09/13 | 09/12/13
October Quarterly | —WAIVED—
Pre-General | 10/16/13 | 10/21/13 | 10/24/13
Post-General | 11/25/13 | 12/05/13 | 12/05/13
Year-End | 12/31/13 | 01/31/14 | 01/31/14
If Only Two Elections Are Held, Semi-Annual Filing Committees Involved in the Special Primary (09/24/13) and Special General (11/05/13) ² Must File:
Pre-Primary | 09/04/13 | 09/09/13 | 09/12/13
Pre-General | 10/16/13 | 10/21/13 | 10/24/13
Post-General | 11/25/13 | 12/05/13 | 12/05/13
Year-End | 12/31/13 | 01/31/14 | 01/31/14
If Only Two Elections Are Held, Quarterly Filing Committees Involved in Only the Special General (11/05/13) ² Must File:
October Quarterly | —WAIVED—
Pre-General | 10/16/13 | 10/21/13 | 10/24/13
Post-General | 11/25/13 | 12/05/13 | 12/05/13
Year-End | 12/31/13 | 01/31/14 | 01/31/14
If Only Two Elections Are Held, Semi-Annual Filing Committees Involved in Only the Special General (11/05/13) ² Must File:
Pre-General | 10/16/13 | 10/21/13 | 10/24/13
Post-General | 11/25/13 | 12/05/13 | 12/05/13
Year-End | 12/31/13 | 01/31/14 | 01/31/14
If Three Elections Are Held, Quarterly Filing Committees Involved in the Special Primary (09/24/13) and Special Runoff (11/05/13) Must File:
Pre-Primary | 09/04/13 | 09/09/13 | 09/12/13
October Quarterly | —WAIVED—
Pre-Runoff | 10/16/13 | 10/21/13 | 10/24/13
Year-End | 12/31/13 | 01/31/14 | 01/31/14
If Three Elections Are Held, Semi-Annual Filing Committees Involved in the Special Primary (09/24/13) and Special Runoff (11/05/13) Must File:
Pre-Primary | 09/04/13 | 09/09/13 | 09/12/13
Pre-Runoff | 10/16/13 | 10/21/13 | 10/24/13
Year-End | 12/31/13 | 01/31/14 | 01/31/14
If Three Elections Are Held, Quarterly Filing Committees Involved in Only the Special Runoff (11/05/13) Must File:
October Quarterly | —WAIVED—
Pre-Runoff | 10/16/13 | 10/21/13 | 10/24/13
Year-End | 12/31/13 | 01/31/14 | 01/31/14
If Three Elections Are Held, Semi-Annual Filing Committees Involved in Only the Special Runoff (11/05/13) Must File:
Pre-Runoff | 10/16/13 | 10/21/13 | 10/24/13
Year-End | 12/31/13 | 01/31/14 | 01/31/14
Quarterly Filing Committees Involved in the Special Primary (09/24/13), Special Runoff (11/05/13) and Special General (12/17/13) Must File:
Pre-Primary | 09/04/13 | 09/09/13 | 09/12/13
October Quarterly | —WAIVED—
Pre-Runoff | 10/16/13 | 10/21/13 | 10/24/13
Pre-General | 11/27/13 | 12/02/13 | 12/05/13
Post-General | 01/06/14 | 01/21/14 | 01/21/14
Year-End | —WAIVED—
Semi-Annual Filing Committees Involved in the Special Primary (09/24/13), Special Runoff (11/05/13) and Special General (12/17/13) Must File:
Pre-Primary | 09/04/13 | 09/09/13 | 09/12/13
Pre-Runoff | 10/16/13 | 10/21/13 | 10/24/13
Pre-General | 11/27/13 | 12/02/13 | 12/05/13
Post-General | 01/06/14 | 01/21/14 | 01/21/14
Year-End | —WAIVED—
If Three Elections Are Held, Quarterly Filing Committees Involved in Only the Special General (12/17/13) Must File:
Pre-General | 11/27/13 | 12/02/13 | 12/05/13
Post-General | 01/06/14 | 01/21/14 | 01/21/14
Year-End | —WAIVED—
If Three Elections Are Held, Semi-Annual Filing Committees Involved in Only the Special General (12/17/13) Must File:
Pre-General | 11/27/13 | 12/02/13 | 12/05/13
Post-General | 01/06/14 | 01/21/14 | 01/21/14
Year-End | —WAIVED—
¹ These dates indicate the end of the reporting period. A reporting period always begins the day after the closing date of the last report filed. If the committee is new and has not previously filed a report, the first report must cover all activity that occurred before the committee registered as a political committee with the Commission up through the close of books for the first report due.
² If a Special Runoff Election is necessary, it will be held on November 5, 2013, and the Special General Election will be held on December 17, 2013.

On behalf of the Commission,
Dated: August 13, 2013.
Ellen L. Weintraub,
Chair, Federal Election Commission.

[FR Doc. 2013-20189 Filed 8-19-13; 8:45 am]

BILLING CODE 6715-01-P